DEPARTMENT OF JUSTICE

Antitrust Division

Notice Pursuant to the National Cooperative Research and Production Act of 1993—Open Mobile Alliance

Notice is hereby given that, on April 19, 2022, pursuant to Section 6(a) of the National Cooperative Research and Production Act of 1993, 15 U.S.C. 4301 et seq. (“the Act”), Open Mobile Alliance (“OMA”) filed written notifications simultaneously with the Attorney General and the Federal Trade Commission disclosing changes in its membership. The notifications were filed for the purpose of extending the Act's provisions limiting the recovery of antitrust plaintiffs to actual damages under specified circumstances. Specifically, Swift Navigation Inc., San Francisco, CA; Comtech Telecommunications Corp., Melville, NY; Tartabit, LLC, Boca Raton, FL, have been added as parties to this venture.

Also, Advantech B&B Smartworx, Oranmore, IRELAND; Carota Corporation, Xuhui District, Shanghai, PEOPLE'S REPUBLIC OF CHINA; Cisco Systems, San Jose, CA; EDF R&D, Palaiseau, FRANCE; ETRI Electronics and Telecommunications Research Institute, Yuseong-Gu, Daejeon, REPUBLIC OF KOREA; Hansung University, Seongbuk-gu, Seoul, REPUBLIC OF KOREA; Mavenir Systems, Inc., Ra'anana, ISRAEL; NextNav LLC., Sunnyvale, CA; NTT DOCOMO, Inc., Tokyo, JAPAN; RobotnMore Co., Ltd., Incheon, REPUBLIC OF KOREA; Sierra Wireless, Richmond, British Columbia, CANADA; Telecommunications Technology Association, Seongnam-si, Gyeonggi-do, PEOPLE'S REPUBLIC OF CHINA; Thales Group, Amsterdam, NETHERLANDS; Traxens, Marseille, FRANCE; u-blox AG, Thalwil, SWITZERLAND, have withdrawn as parties to this venture.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on May 12, 2020. A notice was published in the Federal Register pursuant to Section 6(b) of the Act on May 27, 2020 (85 FR 31808).

Suzanne Morris,
Chief, Premerger and Division Statistics, Antitrust Division.

[FR Doc. 2022-10249 Filed 5-12-22; 8:45 am]

BILLING CODE 4410-11-P